DEPARTMENT OF THE INTERIOR

Bureau of Land Management

[MT-912-0777-XQ]

Notice of Implementation of Level 5 Fire Restrictions in Southwestern Montana; Montana

AGENCY: Bureau of Land Management, Interior.

ACTION: Notice.

SUMMARY: Pursuant to 43 Code of Federal Regulations 9212.2, all Bureau of Land Management lands administered by the Missoula Field Office in Missoula, Granite, Powell, Mineral, and Ravalli Counties and all lands administered by the Butte Field Office in Deer Lodge, Silver Bow, and west Lewis and Clark Counties are closed to public use. These closures are in addition to restrictions enumerated in 43 Code of Federal Regulations 9212.1 and become effective as of 12:01 a.m. Mountain Daylight Time August 11, 2000, and will remain in effect until rescinded or revoked. They amend or replace the restrictions enacted on Wednesday, August 9, 2000 for the Missoula Field Office and Saturday, August 5, 2000 for the Butte Field Office.

Exemptions.

Pursuant to 43 Code of Federal Regulations 9212.2, the following persons are exempt from this order:

1. Any Federal, State, or local officer or member of an organized rescue or firefighting force in the performance of an official duty.

2. Persons with a permit or other written authorization specifically allowing the otherwise prohibited act or omission.

3. Private landowners requiring access to their lands across closed public lands.

4. Grazing permittees in the performance of activities directly related to management of their livestock.

All exemptions will observe the following:

1. Driving will only be allowed on “cleared roads”. These are roads that are at least 12' wide and cleared of vegetation shoulder to shoulder. All other access will be by foot or horseback.

2. Anyone using public lands must have a reliable form of communication.

Violation of this order is prohibited by the provisions of the regulations cited. Under 43 Code of Federal Regulations 9212.4, any violation is subject to punishment by a fine of not more than $1,000 and/or imprisonment of not more than 12 months.

DATES: Restrictions go into effect at 12:01 a.m. mountain daylight time, Friday, August 11, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

August 10, 2000.
Mat Millenbach,
State Director.

[FR Doc. 00-20760 Filed 8-11-00; 10:57 am]

BILLING CODE 4310-$$-P